ENVIRONMENTAL PROTECTION AGENCY

[FRL-6867-5]

Notice of First Amendment to Administrative Settlement Agreement Pursuant to the Comprehensive Environmental Response, Compensation, and Liability Act of 1980, as Amended by the Superfund Amendments and Requthorization Act

AGENCY: Environmental Protection Agency (EPA).

ACTION: Notice; request for public comment.

SUMMARY: In accordance with section 122(i) of the Comprehensive Environmental Response, Compensation, and Liability Act of 1980, as amended (CERCLA), 42 U.S.C. 9622(i), notice is hereby given of a proposed administrative cost recovery settlement agreement concerning the Old City of York Landfill Superfund Site, Springfield Township, York County, Pennsylvania (Proposed Settlement). The Proposed Settlement with the City of York, Pennsylvania (Settling Party) has been approved by the Attorney General, or her designee, of the United States Department of Justice. The Proposed Settlement was signed by the Regional Administrator of the U.S. Environmental Protection Agency (EPA), Region III, on June 19, 2000, pursuant to section 122(h) of CERCLA, 42 U.S.C. 9622, and is subject to review by the public pursuant to this notice.

The Proposed Settlement resolves EPA's claim for past response costs under Section 107 of CERCLA, 42 U.S.C. 9607, against the Settling Party and requires the Settling Party to make a payment of EPA's past response costs totaling $105,000.00 in exchange for a limited covenant for past response costs.

For thirty (30) days following the date of publication of this notice, EPA will receive written comments relating to the Proposed Settlement. EPA will consider all comments received and may withdraw or withhold consent to the Proposed Settlement if such comments disclose facts or considerations which indicate the Proposed Settlement is inappropriate, improper, or inadequate. EPA's response to any written comments received will be available for public inspection at the U.S. Environmental Protection Agency, Region III, 1650 Arch Street, Philadelphia, PA 19103.

DATES: Comments must be submitted on or before October 11, 2000.

Availability: The proposed settlement agreement is available for public inspection at the U.S. Environmental Protection Agency, Region III, 1650 Arch Street, Philadelphia, PA 19103. A copy of the proposed settlement agreement may be obtained from, Regional Docket Clerk (3RC00), U.S. Environmental Protection Agency, 1650 Arch Street, Philadelphia, PA 19103; telephone number (215) 814-2489. Comments should reference the “Old City of York Landfill Superfund Site” and “EPA Docket No. III-92-37-DC” and should be forwarded to Suzanne Canning at the above address.

FOR FURTHER INFORMATION CONTACT: Ami Y. Antoine (3RC43), Sr. Assistant Regional Counsel, U.S. Environmental Protection Agency, 1650 Arch Street, Philadelphia, PA 19103, Phone: (215) 814-2497.

Dated: August 24, 2000.
Bradley M. Campbell,
Regional Administrator, Region III.

[FR Doc. 00-23238 Filed 9-8-00; 8:45 am]

BILLING CODE 6560-50-M